ENVIRONMENTAL PROTECTION AGENCY

[ER-FRL-9056-7]

Environmental Impact Statements; Notice of Availability

Responsible Agency: Office of Federal Activities, General Information 202-564-5632 or https://www.epa.gov/nepa.

Weekly receipt of Environmental Impact Statements (EIS)

Filed May 17, 2021 10 a.m. EST Through May 24, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210057, Revised Final, USFS, AZ, Travel Management on the Tonto National Forest, Review Period Ends: 06/28/2021, Contact: Gregory Schuster 480-292-0291.

EIS No. 20210058, Final Supplement, USACE, CA, American River Watershed Common Features, Water Resources Development Act of 2016 Project—Sacramento Weir Widening, Review Period Ends: 06/28/2021, Contact: Robert Chase 916-557-7630.

EIS No. 20210059, Final, USFS, CO, Enlargement of Monument Reservoir No. 1 Project, Review Period Ends: 07/12/2021, Contact: John Slown 406-493-4196.

EIS No. 20210060, Draft, USACE, TN, North DeSoto County, Mississippi Feasibility Study, Comment Period Ends: 07/12/2021, Contact: Andrea Carpenter 901-544-0817.

Dated: May 24, 2021.
Cindy S. Barger,
Director, NEPA Compliance Division, Office of Federal Activities.

[FR Doc. 2021-11321 Filed 5-27-21; 8:45 am]

BILLING CODE 6560-50-P